DEPARTMENT OF ENERGY

[OE Docket No. EA-306-C]

Application To Export Electric Energy; MAG Energy Solutions, Inc.

AGENCY: Office of Electricity, Department of Energy.

ACTION: Notice of application.

SUMMARY: MAG Energy Solutions, Inc. (Applicant or MAG) has applied for authorization to transmit electric energy from the United States to Canada pursuant to the Federal Power Act.

DATES: Comments, protests, or motions to intervene must be submitted on or before December 21, 2020.

ADDRESSES: Comments, protests, motions to intervene, or requests for more information should be addressed by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On October 27, 2020, MAG filed an application with DOE (Application or App.) for renewal of its authorization to transmit electric energy from the United States to Canada for a term of five years. MAG states that it “is an independent Canadian corporation with its principal place of business in Montreal, Quebec.” App. at 2. MAG further represents that it “is a Canadian close corporation privately owned by a group of 15 shareholders.” Id. MAG adds that it “does not have any affiliates or upstream owners that possess any ownership interest or have involvement in any other company that is a traditional utility or that owns, operates, or controls any electric generation, transmission or distribution facilities, nor do they have any direct involvement with the energy industry other than through the ownership of MAG.” Id.

MAG further states that it “will purchase power to be exported from a variety of sources such as power marketers, independent power producers, or U.S. electric utilities and federal power marketing entities as those terms are defined in Sections 3(22) and 3(19) of the FPA.” App. at 3-4. MAG contends that its exports “will not impair the sufficiency of the electric power supply within the U.S.” and will not impair or tend to impede the sufficiency of electric supplies in the U.S. or the regional coordination of electric utility planning or operations.” Id. at 4.

MAG states that its exports “will be transmitted pursuant to arrangements with utilities that own and operate existing transmission facilities and will be consistent with the export limitations and other terms and conditions contained in the existing Presidential Permits and electricity export authorizations associated with these transmission facilities.” App. at 4. MAG also represents that its exports “will not exceed the export limits for the [transmission facilities it uses], or otherwise cause a violation of the terms and conditions set forth in the export authorizations for each.” Id. at 5.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning MAG's application to export electric energy to Mexico should be clearly marked with OE Docket No. EA-486. Additional copies are to be provided directly to Ruta Kalvaitis Skučas, 1875 K St. NW, Suite 700, Washington, DC 20006, rskucas@pierceatwood.com; and Simon Pelletier, 999 de Maisonneuve Boulevard West, Suite 875, Montreal, Quebec, H3A 3L4 Canada, spelletier@magenergysolutions.com.

A final decision will be made on the Application after the environmental impacts have been evaluated pursuant to DOE's National Environmental Policy Act Implementing Procedures (10 CFR part 1021) and after DOE determines that the proposed action will not have an adverse impact on the sufficiency of supply or reliability of the U.S. electric power supply system.

Copies of the Application will be made available, upon request, by accessing the program website at http://energy.gov/node/11845, or by emailing Matthew Aronoff at matthew.aronoff@hq.doe.gov.

Signed in Washington, DC, on November 17, 2020.
Christopher Lawrence,
Management and Program Analyst, Energy Resilience Division, Office of Electricity.

[FR Doc. 2020-25651 Filed 11-19-20; 8:45 am]

BILLING CODE 6450-01-P